DEPARTMENT OF COMMERCE

Foreign-Trade Zones Board

[Order No. 1092]

Expansion of Foreign-Trade Zone 216; Olympia, WA

Pursuant to its authority under the Foreign-Trade Zones Act of June 18, 1934, as amended (19 U.S.C. 81a—81u), the Foreign-Trade Zones Board (the Board) adopts the following Order:

Whereas, the Port of Olympia, grantee of Foreign-Trade Zone 216 (Olympia, Washington), submitted an application to the Board for authority to expand FTZ 216-Site 3 to include an additional area at the Commerce Place industrial/business park in Lacey, Washington, adjacent to the Port of Olympia Customs port of entry (FTZ Docket 27-99; filed 5/26/99);

Whereas, notice inviting public comment was given in the Federal Register (64 FR 29993, 6/4/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 216-Site 3 is approved, subject to the Act and the Board's regulations, including Section 400.28, and subject to the Board's standard 2,000-acre activation limit.

Signed at Washington, DC, this 8th day of May 2000.
Troy H. Cribb,
Acting Assistant Secretary of Commerce for Import Administration, Alternate Chairman, Foreign-Trade Zones Board.
Dennis Puccinelli,
Acting Executive Secretary.

[FR Doc. 00-12976 Filed 5-22-00; 8:45 am]

BILLING CODE 3510-DS-P